DEPARTMENT OF TRANSPORTATION

Federal Aviation Administration

14 CFR Part 73

[Docket No. FAA-2015-1862; Airspace Docket No. 15-ASO-6]

RIN 2120-AA66

Amendment to the Titles of Restricted Areas R-5301, R-5302A, R-5302B, and R-5302C; North Carolina

AGENCY: Federal Aviation Administration (FAA), DOT.

ACTION: Final rule; technical amendment.

SUMMARY: This action amends Title 14 Code of Federal Regulations (14 CFR) part 73 by making an editorial change to the location names listed in the titles of restricted areas R-5301, R-5302A, R-5302B, and R-5302C in North Carolina. There are no changes to the boundaries; designated altitudes; time of designation, activities conducted within the restricted areas or the actual physical locations of the restricted areas.

DATES: Effective date: 0901 UTC, August 20, 2015.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it updates the locations named in the titles of restricted areas R-5301, R-5302A, R-5302B, and R-5302C in North Carolina.

Background

A discrepancy has been identified in the location names listed in the titles of restricted areas R-5301, R-5302A, R-5302B, and R-5302C, in North Carolina. Currently, the location in the title of R-5301 reads “Albemarle Sound, NC” and the location in the titles of R-5302A, B, and C reads “Harvey Point, NC.” A review of aeronautical charts reveals that the location names should be reversed. R-5301 lies physically over Harvey Point. NC; while R-5302A, B, and C are situated above Albemarle Sound.

The Rule

This action amends Title 14 Code of Federal Regulations (14 CFR) part 73 by making an editorial change to the location names listed in the titles of restricted areas R-5301, R-5302A, R-5302B, and R-5302C in North Carolina. As noted above, the locations currently listed in the restricted area descriptions are inaccurate. The title that reads “R-5301 Albemarle Sound, NC” is changed to read “R-5301 Harvey Point, NC.” The titles for restricted areas R-5302A, R-5302B, and R-5302C, which currently read “Harvey Point, NC,” are changed to read “Albemarle Sound, NC.” This is an editorial change to update the locations in the titles of restricted areas R-5301, R-5302A, R-5302B, and R-5302C in North Carolina. The areas are correctly depicted on aeronautical charts. This change does not affect the boundaries, designated altitudes, activities conducted within the restricted areas or the actual physical location of the airspace; therefore, notice and public procedure under 5 U.S.C. 553(b) are unnecessary.

Regulatory Notices and Analyses

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1E, Environmental Impacts: Policies and Procedures, paragraph 311d. This action is an administrative change to the titles in the descriptions of the affected restricted areas to reflect the correct locations. It does not alter the dimensions, altitudes, times of designation or actual physical locations of the airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.53 [Amended]

2. Section 73.53 is amended as follows:

* * * * *

R-5301 Albemarle Sound, NC [Remove]

R-5302A Harvey Point, NC [Remove]

R-5302B Harvey Point, NC [Remove]

R-5302B Harvey Point, NC [Remove]

R-5301 Harvey Point, NC [New]

Boundaries. Beginning at lat. 36°04′56″ N., long. 76°16′47″ W.; to lat. 36°04′23″ N., long. 76°20′59″ W.; to lat. 36°06′58″ N., long. 76°20′58″ W.; thence clockwise via a 3 nautical mile arc centered at lat. 36°04′01″ N., long. 76°20′19″ W.; to the point of beginning.

Designated altitudes. Surface to 14,000 feet MSL.

Time of designation. Continuous.

Controlling agency. FAA, Washington ARTCC.

Using agency. U.S. Navy, Fleet Area Control and Surveillance Facility, Virginia Capes (FACSFAC VACAPES), Virginia Beach, VA.

R-5302A Albemarle Sound, NC [New]

Boundaries. Beginning at lat. 36°01′21″ N., long. 76°14′29″ W.; to lat. 36°02′19″ N., long. 76°07′14″ W.; to lat. 36°00′01″ N., long. 76°07′14″ W.; to lat. 36°00′01″ N., long. 76°14′29″ W.; to the point of beginning.

Designated altitudes. Surface to 14,000 feet MSL.

Time of designation. By NOTAM at least 24 hours in advance.

Controlling agency. FAA, Washington ARTCC.

Using agency. U.S. Navy, Fleet Area Control and Surveillance Facility, Virginia Capes (FACSFAC VACAPES), Virginia Beach, VA.

R-5302B Albemarle Sound, NC [New]

Boundaries. Beginning at lat. 36°04′59″ N., long. 76°16′29″ W.; to lat. 36°04′01″ N., long. 76°05′59″ W.; to lat. 36°00′01″ N., long. 76°05′59″ W.; to lat. 36°00′01″ N., long. 76°12′59″ W.; to lat. 36°00′04″ N., long. 76°24′17″ W.; thence clockwise via a 4 nautical mile arc centered at lat. 36°02′01″ N., long. 76°19′59″ W.; to lat. 36°03′56″ N., long. 76°24′18″ W.; to the point of beginning.

Designated altitudes. 100 feet AGL to 14,000 feet MSL.

Time of designation. By NOTAM at least 24 hours in advance.

Controlling agency. FAA, Washington ARTCC.

Using agency. U.S. Navy, Fleet Area Control and Surveillance Facility, Virginia Capes (FACSFAC VACAPES), Virginia Beach, VA.

R-5302C Albemarle Sound, NC [New]

Boundaries. Beginning at lat. 36°00′01″ N., long. 76°12′59″ W.; to lat. 35°58′50″ N., long. 76°16′58″ W.; thence clockwise via a 4 nautical mile arc centered at lat. 36°02′01″ N., long. 76°19′59″ W.; to lat. 36°00′04″ N., long. 76°24′17″ W.; to the point of beginning.

Designated altitudes. 100 feet AGL to 3,000 feet MSL.

Time of designation. By NOTAM at least 24 hours in advance.

Controlling agency. FAA, Washington ARTCC.

Using agency. U.S. Navy, Fleet Area Control and Surveillance Facility, Virginia Capes (FACSFAC VACAPES), Virginia Beach, VA.

Issued in Washington, DC on June 10, 2015.
Gary A. Norek,
Manager, Airspace Policy and Regulations Group.

[FR Doc. 2015-14798 Filed 6-15-15; 8:45 am]

BILLING CODE 4910-13-P